DEPARTMENT OF THE TREASURY

Agency Information Collection Activities; Submission for OMB Review; Comment Request; Multiple Departmental Offices Information Collection Requests

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before December 28, 2017 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8142, Washington, DC 20220, or email at PRA@treasury.gov.

FOR FURTHER INFORMATION CONTACT: Copies of the submissions may be obtained from Jennifer Leonard by emailing PRA@treasury.gov, calling (202) 622-0489, or viewing the entire information collection request at www.reginfo.gov.

SUPPLEMENTARY INFORMATION:

Departmental Offices (DO)

Title: Monthly Consolidated Foreign Currency Report of Major Market Participants.

OMB Control Number: 1505-0010.

Type of Review: Revision of a currently approved collection.

Abstract: Collection of information on Form FC-2 is required by law. Form FC-2 is designed to collect timely information on foreign exchange contracts purchased and sold; foreign exchange futures purchased and sold; foreign currency options and net delta equivalent value; foreign currency denominated assets and liabilities; net reported dealing positions.

Form: FC-2.

Affected Public: Businesses or other for-profits.

Estimated Total Annual Burden Hours: 1,296.

Title: Weekly Consolidated Foreign Currency Report of Major Market Participants.

OMB Control Number: 1505-0012.

Type of Review: Revision of a currently approved collection.

Abstract: Collection of information on Form FC-1 is required by law. Form FC-1 is designed to collect timely information on foreign exchange spot, forward and futures purchased and sold; net options position, delta equivalent value long or short; net reported dealing position long or short.

Form: FC-1.

Affected Public: Businesses or other for-profits.

Estimated Total Annual Burden Hours: 1,248.

Title: Quarterly Consolidated Foreign Currency Report.

OMB Control Number: 1505-0014.

Type of Review: Revision of a currently approved collection.

Abstract: Collection of information on Form FC-3 is required by law. Form FC-3 is designed to collect timely information on foreign exchange contracts purchased and sold; foreign exchange futures purchased and sold; foreign currency denominated assets and liabilities; foreign currency options and net delta equivalent value.

Form: FC-3.

Affected Public: Businesses or other for-profits.

Estimated Total Annual Burden Hours: 1,664.

Authority: 44 U.S.C. 3501 et seq.

Dated: November 21, 2017.
Spencer W. Clark,
Treasury PRA Clearance Officer.

[FR Doc. 2017-25611 Filed 11-27-17; 8:45 am]

BILLING CODE 4810-25-P